DEPARTMENT OF HOUSING AND URBAN DEVELOPMENT

[Docket No. FR-4632-N-02]

Notice of Funding Availability Fair Share Allocation of Incremental Voucher Funding Fiscal Year 2001; Amendment and Deadline Extension

AGENCY: Office of the Assistant Secretary for Public and Indian Housing, HUD.

ACTION: Notice of Fund Availability (NOFA); Amendment to MTCS Threshold.

SUMMARY: On December 13, 2000, HUD published its Notice of Funding Availability for Fair Share Allocation of Incremental Voucher Funding for Fiscal Year 2001 (“Fair Share NOFA”). This notice amends the December 13, 2000 Fair Share NOFA to revise the Multifamily Tenant Characteristics System (MTCS) threshold to include MTCS reporting information ending December 2000, and to extend the application deadline.

DATES: Applications are due on February 20, 2001. Applicants that already submitted applications, need not resubmit a new application, and need not amend their applications. Applicants that already submitted applications, however, may submit new or amended applications if they so choose.

Additional Information

Background—December 13, 2001 NOFA

If you are interested in applying for funding under the Fair Share NOFA, and did not apply earlier, please review the entire Fair Share NOFA, published on December 13, 2000 (65 FR 78040). Except for the amendment made by this document, and the extension of the application deadline, all other provisions of the Fair Share NOFA are unchanged and remain applicable.

The December 13, 2000 Fair Share NOFA will provide you with detailed information regarding the submission of an application, Section 8 program requirements, the application selection process to be used by HUD in selecting applications for funding, and other valuable information relative to a PHA's application submission and participation in the program covered by this NOFA.

Amendments to December 13, 2000 Fair Share NOFA

Amendment #1. Section VI(F) of the December 13, 2000 Fair Share NOFA (at 65 FR 78045, third column) is amended to read as follows:

(F) Multifamily Tenant Characteristics System (MTCS) Reporting Certification. In order to be eligible to submit an application under this Fair Share NOFA, the PHA must have a minimum reporting rate of not less than 85 percent for housing choice voucher and certificate resident records to HUD's MTCS (see 24 CFR Part 908 and Notices PIH 98-30, 99-2 and 2000-13) for the period ending December 1999, and must submit a certification with its application certifying to having met this requirement.

In the event a PHA received less than an 85 percent rate of reporting under MTCS for this period, the PHA will still be considered to have passed the threshold if: (1) subsequently achieved a minimum reporting rate of not less than 85 percent for housing choice voucher and certificate resident records to HUD's MTCS; or (2) the PHA has requested forbearance from HUD under the applicable procedures in Notice PIH 2000-13 for the semi-annual assessment period ending December 2000, contingent upon HUD approval of the forbearance request. In the latter instance, the PHA must submit a certification with its application indicating that it has either achieved such a minimum reporting rate as of the December 2000 reporting period, or that it has submitted a forbearance request to HUD for the semi-annual assessment period ending December 2000, and acknowledges that the forbearance request must be approved by HUD in order for the PHA to pass the Fair Share NOFA's MTCS threshold requirement.

Amendment #2. Section VII(B)(2)(i) of the December 13, 2000 Fair Share NOFA (at 65 FR 78046, third column) is amended to read as follows:

(i) The applicant has failed to achieve a minimum 85 percent submission rate for housing choice voucher and certificate resident records to HUD's Multifamily Tenant Characteristics System (MTCS), as set forth in 24 CFR part 908 and Notices PIH 98-30, 99-2 and 2000-13, for the periods ending December 1999 and December 2000, and has failed to receive approval for forbearance from HUD for the period ending December 2000.

Dated: January 17, 2001.
Gloria Cousar,
Acting General Deputy, Assistant Secretary for Public and Indian Housing.

[FR Doc. 01-1800 Filed 1-17-01; 3:40 pm]

BILLING CODE 4210-33-P